DEPARTMENT OF TRANSPORTATION

Federal Railroad Administration

49 CFR Part 228

[Docket No. FRA-2025-0125]

RIN 2130-AD36

Modernizing Dispatcher's Record of Train Movements

AGENCY: Federal Railroad Administration (FRA), Department of Transportation (DOT).

ACTION: Final rule.

SUMMARY: This final rule modernizes requirements related to a dispatcher's record of train movements. Specifically, it will eliminate the reference to the telegraph and the need for rail carriers to record weather conditions at 6-hour intervals, as outdated and redundant, respectively.

DATES: This rule is effective July 31, 2025.

FOR FURTHER INFORMATION CONTACT: William T. Smith, Operating Practices Specialist, FRA, telephone: (682) 305-6709, email: William.Smith@dot.gov; or Colleen A. Brennan, Deputy Assistant Chief Counsel, FRA, telephone: (202) 657-3927, email: Colleen.Brennan@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR) and repealing requirements that are outdated and redundant. In this final rule, FRA is removing the reference in 49 CFR 228.17(a) to the telegraph, an outdated technology, and the need for rail carriers to record weather conditions at 6-hour intervals, a redundant requirement, as weather information is now readily available and easily accessible. For more information, please review the Section-by-Section Analysis below for the relevant information related to FRA's repeal of this regulatory provision.

II. Final Rule

Under the Administrative Procedure Act, an agency may dispense with notice and comment “when the agency for good cause finds (and incorporates the finding and a brief statement of reasons therefor in the rules issued) that notice and public procedure thereon are impracticable, unnecessary, or contrary to the public interest.” 5 U.S.C. 553(b)(B). FRA has determined that issuing a final rule is the appropriate mechanism here because notice and comment are unnecessary, as FRA is merely removing a reference to an outdated technology, the telegraph, and a redundant weather reporting requirement. FRA is not imposing any new requirements in § 228.17.

III. Section-by-Section Analysis

Section 228.17 Dispatcher's Record of Train Movements

As discussed above, this final rule revises the language of 49 CFR 228.17 to eliminate the reference to the telegraph in introductory paragraph (a) and the need to record weather conditions at 6-hour intervals in paragraph (a)(4).

III. Regulatory Impact and Notices

A. Executive Order (E.O.) 12866 (Regulatory Planning and Review) and DOT Regulatory Policies and Procedures

FRA has considered the impact of this final rule under E.O. 12866 (58 FR 51735, Oct. 4, 1993), Regulatory Planning and Review, and DOT Regulatory Policies and Procedures. The Office of Information and Regulatory Affairs within OMB determined that this final rule is not a significant regulatory action under section 3(f) of E.O. 12866. This final rule is considered an E.O. 14192 deregulatory action.

FRA analyzed the potential costs and benefits of this final rule. Because this final rule eliminates the need for rail carriers to record weather conditions at 6-hour intervals, this final rule may reduce burdens on regulated entities without imposing any additional cost. This rule also provides clarity by removing outdated references to the telegraph. Moreover, this rule will provide some qualitative benefits to regulated entities and the U.S. government, by updating the language of part 228.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ¹ Implementation guidance for E.O. 14192 issued by OMB (Memorandum M-25-20, March 26, 2025) defines two different types of E.O. 14192 actions: an E.O. 14192 deregulatory action, and an E.O. 14192 regulatory action.²

¹ Executive Office of the President. Executive Order 14192 of January 31, 2025. Unleashing Prosperity Through Deregulation. 90 FR 9065-9067 (Feb. 6, 2025).

² Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This rulemaking is expected to have total costs less than zero, and therefore it would be considered an E.O. 14192 deregulatory action upon issuance of this rule.

C. Regulatory Flexibility Act and E.O. 13272

The Regulatory Flexibility Act of 1980 ((RFA), 5 U.S.C. 601 et seq.) and E.O. 13272 (67 FR 53461, Aug. 16, 2002) requires an agency to prepare and make available to the public a regulatory flexibility analysis that describes the effect of the rule on small entities (i.e., small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

The recordkeeping and reporting requirements already contained in Part 228 were approved by OMB on April 30, 2025. The information collection requirements thereby became effective when they were approved by OMB. The OMB approval number is OMB No. 2130-0005, and OMB approval expires on April 30, 2028. However, this final rule will decrease the paperwork burden in 49 CFR 228.17 by removing the recordkeeping requirement of recording the weather conditions at 6-hour intervals. All other paperwork requirements within Part 228 remain the same. By removing this recordkeeping requirement, the approved burden within § 228.17 of 285,000 hours will decrease by 71,250 hours for a revised estimate of 213,750 hours.

E. Environmental Assessment

FRA has evaluated this final rule in accordance with the National Environmental Policy Act (42 U.S.C. 4321 et seq.). FRA has determined that this final rule is categorically excluded from environmental review and therefore does not require the preparation of an environmental assessment or environmental impact statement. Specifically, FRA has determined that this final rule is categorically excluded from detailed environmental review.³

³ See 23 CFR 771.116(c)(15) (categorically excluding “[p]romulgation of rules, the issuance of policy statements, the waiver or modification of existing regulatory requirements, or discretionary approvals that do not result in significantly increased emissions of air or water pollutants or noise”).

F. Federalism Implications

This final rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This final rule will not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211 requires Federal agencies to prepare a Statement of Energy Effects for any “significant energy action.” ⁴ FRA has evaluated this final rule in accordance with E.O. 13211 and determined that this final rule is not a “significant energy action” within the meaning of E.O. 13211.

⁴ 66 FR 28355 (May 22, 2001).

I. E.O. 13175 (Tribal Consultation)

FRA has evaluated this final rule in accordance with the principles and criteria contained in E.O. 13175, Consultation and Coordination with Indian Tribal Governments, dated November 6, 2000. The final rule will not have a substantial direct effect on one or more Indian tribes, will not impose substantial direct compliance costs on Indian tribal governments, and will not preempt tribal laws. Therefore, the funding and consultation requirements of E.O. 13175 do not apply, and a tribal summary impact statement is not required.

J. International Trade Impact Assessment

The Trade Agreement Act of 1979 prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

List of Subjects in 49 CFR Part 228

Administrative practice and procedure, Hours of service recordkeeping, Railroad safety.

The Final Rule

For the reasons discussed in the preamble, FRA amends 228 of chapter II, subtitle B of title 49, Code of Federal Regulations as follows:

1. The authority citation for part 228 continues to read as follows:

Authority: 49 U.S.C. 103, 20103, 20107, 21101-21109; 49 U.S.C. 21301, 21303, 21304, 21311; 28 U.S.C. 2461 note; and 49 CFR 1.89.

2. Amend § 228.17 by revising and republishing paragraph (a) to read as follows:

§ 228.17 Dispatcher's record of train movements.

(a) Each carrier shall keep, for each dispatching district, a record of train movements made under the direction and control of a dispatcher who uses telephone, radio, or any other electrical or mechanical device to dispatch, report, transmit, receive, or deliver orders pertaining to train movements. The following information shall be included in the record:

(1) Identification of timetable in effect.

(2) Location and date.

(3) Identification of dispatchers and their times on duty.

(4) Identification of enginemen and conductors and their times on duty.

(5) Identification of trains and engines.

(6) Station names and office designations.

(7) Distances between stations.

(8) Direction of movement and the time each train passes all reporting stations.

(9) Arrival and departure times of trains at all reporting stations.

(10) Unusual events affecting movement of trains and identification of trains affected.

* * * * *

Issued in Washington, DC.
Kyle D. Fields,
Chief Counsel.

[FR Doc. 2025-12183 Filed 6-27-25; 4:15 pm]

BILLING CODE 4910-06-P